DEPARTMENT OF TRANSPORTATION

Federal Aviation Administration

14 CFR Part 39

[Docket No. FAA-2018-0807; Product Identifier 2018-NM-003-AD; Amendment 39-19674; AD 2019-13-01]

RIN 2120-AA64

Airworthiness Directives; Airbus SAS Airplanes

AGENCY: Federal Aviation Administration (FAA), Department of Transportation (DOT).

ACTION: Final rule.

SUMMARY: The FAA is adopting a new airworthiness directive (AD) for certain Airbus SAS Model A330-200, A330-300, A340-200, and A340-300 series airplanes. This AD was prompted by a report that revealed the wheel axles of the main landing gear (MLG) were machined with a certain radius and a determination that the life limit for the affected wheel axles of the MLG must be reduced. This AD requires an inspection to determine the part number and serial number of each MLG wheel axle and replacement of affected parts prior to exceeding the reduced life limits. The FAA is issuing this AD to address the unsafe condition on these products.

DATES: This AD is effective December 17, 2019.

The Director of the Federal Register approved the incorporation by reference of certain publications listed in this AD as of December 17, 2019.

ADDRESSES: For service information identified in this final rule, contact Airbus SAS, Airworthiness Office—EAL, Rond-Point Emile Dewoitine No: 2, 31700 Blagnac Cedex, France; phone: +33 5 61 93 36 96; fax: +33 5 61 93 45 80; email: airworthiness.A330-A340@airbus.com; internet: http://www.airbus.com. You may view this service information at the FAA, Transport Standards Branch, 2200 South 216th St., Des Moines, WA. For information on the availability of this material at the FAA, call 206-231-3195. It is also available on the internet at https://www.regulations.gov by searching for and locating Docket No. FAA-2018-0807.

Examining the AD Docket

You may examine the AD docket on the internet at https://www.regulations.gov by searching for and locating Docket No. FAA-2018-0807; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; phone and fax: 206-231-3229.

SUPPLEMENTARY INFORMATION:

Discussion

The FAA issued a notice of proposed rulemaking (NPRM) to amend 14 CFR part 39 by adding an AD that would apply to certain Airbus SAS Model A330-200, A330-300, A340-200, and A340-300 series airplanes. The NPRM published in the Federal Register on October 15, 2018 (83 FR 51889). The NPRM was prompted by a report that revealed the wheel axles of the MLG were machined with a radius as small as 0.4 millimeters (mm) and a determination that the life limit for the affected wheel axles of the MLG must be reduced. The NPRM proposed to require an inspection to determine the part number and serial number of each MLG wheel axle and replacement of affected parts prior to exceeding the reduced life limits.

The FAA issued a supplemental notice of proposed rulemaking (SNPRM) to amend 14 CFR part 39 by adding an AD that would apply to certain Airbus SAS Model A330-200, A330-300, A340-200, and A340-300 series airplanes. The SNPRM published in the Federal Register on April 15, 2019 (84 FR 15154). The FAA issued the SNPRM to add certain airplanes to certain compliance time tables.

The FAA is issuing this AD to address fatigue of the wheel axles of the MLG, which could result in reduced structural integrity of the airplane.

The European Aviation Safety Agency (EASA), which is the Technical Agent for the Member States of the European Union, has issued EASA AD 2018-0150, dated July 16, 2018 (referred to after this as the Mandatory Continuing Airworthiness Information, or “the MCAI”), to correct an unsafe condition for certain Airbus SAS Model A330-200, A330-300, A340-200, and A340-300 series airplanes.

This AD was prompted by a report that revealed the wheel axles of the MLG were machined with a radius as small as 0.4 millimeters and a determination that the life limit for the affected wheel axles of the MLG must be reduced. The FAA is issuing this AD to address fatigue of the wheel axles of the MLG, which could result in reduced structural integrity of the airplane. See the MCAI for additional background information.

Comments

The FAA gave the public the opportunity to participate in developing this final rule. The FAA considered the comments received. An anonymous commenter and Laith Ibrahim stated their support for the NPRM.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

Airbus has issued Service Bulletin A330-32-3282, Revision 03, dated October 24, 2017; and Service Bulletin A340-32-4311, Revision 03, dated October 24, 2017. This service information describes procedures for inspecting the MLG wheel axles to determine the part number and serial number, and replacing the affected MLG wheel axles. This service information also specifies reduced life limits for the affected MLG wheel axles. These documents are distinct since they apply to different airplane models.

This service information is reasonably available because the interested parties have access to it through their normal course of business or by the means identified in the ADDRESSES section.

Costs of Compliance

The FAA estimates that this AD affects 29 airplanes of U.S. registry. The FAA estimates the following costs to comply with this AD:

Estimated Costs
Labor cost | Parts cost | Cost per product | Cost on U.S. operators
2 work-hours × $85 per hour = $170 | $0 | $170 | $4,930

The FAA estimates the following costs to do any necessary on-condition replacements that would be required based on the results of any required actions. The FAA has no way of determining the number of aircraft that might need these on-condition replacements:

Estimated Costs of On-Condition Actions
Labor cost (per part) | Parts cost (per part) | Cost per product (per part)
16 work-hours × $85 per hour = $1,360 | $40,000 | $41,360

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-13-01 Airbus SAS: Amendment 39-19674; Docket No. FAA-2018-0807; Product Identifier 2018-NM-003-AD.

(a) Effective Date

This AD is effective December 17, 2019.

(b) Affected ADs

This AD affects AD 2013-08-03, Amendment 39-17420 (78 FR 23105, April 18, 2013) (“AD 2013-08-03”).

(c) Applicability

This AD applies to the Airbus SAS airplanes, certificated in any category, specified in paragraphs (c)(1) through (5) of this AD.

(1) Model A330-201, -202, -203, -223, and -243 airplanes, all manufacturer serial numbers (MSNs), except those on which Airbus Modification 54500 has been embodied in production.

(2) Model A330-301, -302, -303, -321, -322, -323, -341, -342, and -343 airplanes, all manufacturer serial numbers, except MSNs 0896, 0905, and 0913 (which are specified in paragraph (c)(3) of this AD), and except those on which Airbus Modification 54500 has been embodied in production.

(3) Model A330-343 airplanes, MSNs 0896, 0905, and 0913, except those on which the actions in Airbus Service Bulletin A330-32-3273 have been embodied in service.

(4) Model A340-211, -212, and -213 airplanes, all manufacturer serial numbers, except those on which Airbus Modification 54500 has been embodied in production.

(5) Model A340-311, -312, and -313 airplanes, all manufacturer serial numbers, except those on which Airbus Modification 54500 has been embodied in production.

(d) Subject

Air Transport Association (ATA) of America Code 32, Landing gear.

(e) Reason

This AD was prompted by a report that revealed the wheel axles of the main landing gear (MLG) were machined with a radius as small as 0.4 millimeters and a determination that the life limit for the affected wheel axles of the MLG must be reduced. The FAA is issuing this AD to address fatigue of the wheel axles of the MLG, which could result in reduced structural integrity of the airplane.

(f) Compliance

Comply with this AD within the compliance times specified, unless already done.

(g) Definitions

(1) For the purpose of this AD, the affected MLG wheel axles are listed by part number and serial number in Appendix 01 (Maintenance Repair Organization (MRO) 001), Appendix 02 (MRO 002), and Appendix 03 (MRO 003) of Airbus Service Bulletin A330-32-3282, Revision 03, dated October 24, 2017; and Airbus Service Bulletin A340-32-4311, Revision 03, dated October 24, 2017; as applicable.

(2) For the purpose of this AD, a serviceable MLG wheel axle is an affected MLG wheel axle that has not exceeded the applicable post-repair life limit values as specified in table 1 to paragraphs (g)(2), (g)(3), and (i) of this AD, table 2 to paragraphs (g)(2), (g)(3), and (i) of this AD, or table 3 to paragraphs (g)(2), (g)(3), and (i) of this AD; or a part that is not an affected MLG wheel axle.

BILLING CODE 4910-13-P

BILLING CODE 4910-13-C

(3) For the purpose of this AD, the term “post-repair life limits” represents the time-in-service, flight cycles, or flight hours, whichever occurs first, accumulated since repair by the affected MRO specified in table 1 to paragraphs (g)(2), (g)(3), and (i) of this AD, table 2 to paragraphs (g)(2), (g)(3), and (i) of this AD, or table 3 to paragraphs (g)(2), (g)(3), and (i) of this AD.

(h) Inspection To Determine Part Number and Serial Number

Within 90 days after the effective date of this AD: Do an inspection of each MLG wheel axle (left-hand and right-hand sides) to determine the part number and serial number. A review of airplane delivery or maintenance records is acceptable to make this determination, in lieu of inspecting a MLG wheel axle, provided those records can be relied upon for that purpose and the part number and serial number of the affected part can be positively identified from that review.

(i) Replacement of Affected MLG Wheel Axles

If any affected MLG wheel axle is found: Within the compliance time specified in table 1 to paragraphs (g)(2), (g)(3), and (i) of this AD, table 2 to paragraphs (g)(2), (g)(3), and (i) of this AD, or table 3 to paragraphs (g)(2), (g)(3), and (i) of this AD; replace each repaired MLG wheel axle with a serviceable MLG wheel axle, in accordance with the Accomplishment Instructions of Airbus Service Bulletin A330-32-3282, Revision 03, dated October 24, 2017; or Airbus Service Bulletin A340-32-4311, Revision 03, dated October 24, 2017; as applicable. Post-repair life limits specified in tables 1, 2, and 3 to paragraphs (g)(2), (g)(3), and (i) of this AD may not exceed the applicable ALS Part 1 life limits in the existing maintenance or inspection program.

(j) Parts Installation Limitation

As of the effective date of this AD, any affected MLG wheel axle repaired using MRO 001, MRO 002, or MRO 003 may be installed on an airplane, provided the MLG wheel axle is a serviceable part as defined in paragraph (g)(2) of this AD.

(k) Terminating Action for AD 2013-08-03

Accomplishing the inspection and replacement required by paragraphs (h) and (i) of this AD terminates all requirements of AD 2013-08-03.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA AD 2018-0150, dated July 16, 2018, for related information. This MCAI may be found in the AD docket on the internet at https://www.regulations.gov by searching for and locating Docket No. FAA-2018-0807.

(2) For more information about this AD, contact Vladimir Ulyanov, Aerospace Engineer, International Section, Transport Standards Branch, FAA, 2200 South 216th St., Des Moines, WA 98198; phone and fax: 206-231-3229.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-32-3282, Revision 03, dated October 24, 2017.

(ii) Airbus Service Bulletin A340-32-4311, Revision 03, dated October 24, 2017.

(3) For service information identified in this AD, contact Airbus SAS, Airworthiness Office—EAL, Rond-Point Emile Dewoitine No: 2, 31700 Blagnac Cedex, France; phone: +33 5 61 93 36 96; fax: +33 5 61 93 45 80; email: airworthiness.A330-A340@airbus.com; internet: http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued in Des Moines, Washington, on July 3, 2019.
Michael Kaszycki,
Acting Director, System Oversight Division, Aircraft Certification Service.

[FR Doc. 2019-24492 Filed 11-8-19; 8:45 am]

BILLING CODE 4910-13-P